DEPARTMENT OF HEALTH AND HUMAN SERVICES

Administration for Children and Families

Proposed Information Collection Activity; Addition of New Instruments to Existing Information Collections by the Office of Refugee Resettlement (OMB #s: 0970-0553, 0970-0554, and 0970-0547)

AGENCY: Office of Refugee Resettlement, Administration for Children and Families, Department of Health and Human Services.

ACTION: Request for public comment.

SUMMARY: The Office of Refugee Resettlement (ORR), Administration for Children and Families (ACF), U.S. Department of Health and Human Services (HHS), is inviting public comments on several proposed instruments. The instruments will be added to the following existing information collections: Services Provided to Unaccompanied Alien Children (OMB #0970-0553), Placement and Transfer of Unaccompanied Alien Children into ORR Care Provider Facilities (OMB #0970-0554), and Administration and Oversight of the Unaccompanied Alien Children Program (OMB #0970-0547).

DATES: Comments due within 60 days of publication. In compliance with the requirements of Section 3506(c)(2)(A) of the Paperwork Reduction Act of 1995, ACF is soliciting public comment on the specific aspects of the information collection described in this notice.

ADDRESSES: Copies of the proposed collection of information can be obtained and comments may be forwarded by emailing infocollection@acf.hhs.gov. Alternatively, copies can also be obtained by writing to the Administration for Children and Families, Office of Planning, Research and Evaluation (OPRE), 330 C Street SW, Washington, DC 20201, Attn: ACF Reports Clearance Officer. All requests, emailed or written, should be identified by the title of the information collection.

SUPPLEMENTARY INFORMATION: Description: The components of these requests and the existing information collections to which each component will be added are as follows:

Services Provided to Unaccompanied Alien Children Into ORR Care Provider Facilities (OMB #0970-0553)

1. Admission: This instrument is used by ORR grantee case managers and clinicians to document the UAC's initial needs, functioning, and history. The Admission Details tab includes a case status timeline; biographic information on the UAC; admission and educational information; medical clearance information; influx transfer information, if applicable; system-generated information; a clickable, auto-generated list of Admission Assessments and the ability to create a new assessment; a clickable, auto-generated list of Transfer Requests and the ability to create a new transfer requests, if applicable; and a clickable, auto-generated list of Long Term Foster Care (LTFC) Travel Requests and the ability to create a new transfer requests, if applicable. The Related tab includes areas to upload case management, education, and medical documents; an area to add Entry Team members (individuals granted read/write access to the Admission instrument); and an auto-generated list of changes made to the Admission instrument. The Call Logs tab includes a clickable, auto-generated list of calls and the ability to add a new call to the log.

2. Home Study/Post-Release Services (HS/PRS) Primary Provider Entity: This instrument is used by ORR grantee HS/PRS providers to add identifying information about their organization into the UAC Path system. Each organization only needs to be created once. Field values may be updated as often as needed.

3. Home Study/Post-Release Services (HS/PRS) Subcontractor Entity: This instrument is used by ORR grantee HS/PRS providers to add identifying information about their sub-grantee organizations into the UAC Path system and link them to their HS/PRS Primary Provide Entity record. Each organization only needs to be created once. Field values may be updated as often as needed.

4. Home Study/Post-Release Services (HS/PRS) Primary Provider Profile: This instrument is used by primary HS/PRS providers to add identifying information about caseworkers employed by their organization. Each individual only needs to be entered once. Field values may be updated as often as needed.

5. Home Study/Post-Release Services (HS/PRS) Subcontractor Profile: This instrument is used by primary HS/PRS providers to add identifying information about caseworkers employed their sub-grantee organizations. Each individual only needs to be entered once. Field values may be updated as often as needed.

6. Home Study/Post-Release Services (HS/PRS) Referral: This instrument is used by case managers to refer a UAC for a home study and/or post-release services. The Referral Details tab includes biographic information on the UAC; areas to enter information about the HS/PRS referral, referring program, sponsor, HS/PRS provider, and disposition of the case; an area to add Entry Team members (individuals granted read/write access to the referral); an area to upload related documents; a clickable, auto-generated list of HS/PRS referral assessments and the ability to create a new assessment; an auto-generated list of changes made to the referral; and a clickable, auto-generated list of related entries/records. The Related tab includes clickable, auto-generated lists of sponsor HS/PRS referrals, related UAC contacts, related UAC HS/PRS referrals, and related records/entries.

7. Post-Release Services (PRS) Event: This instrument is used by ORR grantee post-release service caseworkers to document referrals made and services provided at critical junctures of service provision, such as 14-day, 6-month, 12-month, and closure. The instrument contains auto-populated sponsor information and areas to document information about the HS/PRS provider, reason for referral, the minor's placement and safety status, and services areas addressed.

8. UAC Authorized/Restricted Call List and Call Log: This instrument is used by grantee case managers to create a list of authorized and restricted contacts to ensure safe communication for the UAC and document the details of phone calls made by a UAC.

9. Case Manager Call Log and Case Notes: This instrument is used by case managers to log any contact (in-person, phone, video, social media, or mail) they make in relation to the UAC's case, including any related notes.

10. Ohio Youth Assessment System (OYAS) Reentry Tool: This instrument was created by the University of Cincinnati Corrections Institute and consists of an Interview Guide, Self-Report Questionnaire, and Score Sheet. The tool is a risk/needs assessment used by case managers in secure and staff secure facilities to assess UAC for readiness to transition into the community and measure the UAC's progress while in ORR custody.

Placement and Transfer of Unaccompanied Alien Children Into ORR Care Provider Facilities (OMB #0970-0554)

1. Family Group Entity: This instrument is used by the ORR Intakes Team to associate UACs who are member of the same family with each other.

2. Influx Transfer Manifest: This instrument is used by designated care provider and ORR staff to plan, track, and notify stakeholders of group transfers to an influx care facility.

3. Influx Transfer Manual and Prescreen Criteria Review: This instrument is used by designated care provider staff to evaluate each UAC's eligibility to be transferred to an influx care facility. Care provider staff review and update information on daily during times of influx. The status in the prescreen criteria section is auto-populated based on information in the UAC's profile and may be overridden if requested by ORR.

Administration and Oversight of the Unaccompanied Alien Children Program (OMB #0970-0547)

1. Notification of Concern: This instrument is used by home study and post-release service caseworkers, care provider case managers, and the ORR National Call Center to notify ORR of certain concerns that arise after a UAC is released from ORR custody.

Respondents: ORR grantee and contractor staff, UAC, and sponsors.

Annual Burden Estimates:

Services Provided to Unaccompanied Alien Children
[OMB #0970-0553]
Instrument | Annual total number of respondents | Annual total number of responses per respondent | Average burden minutes per response | Annual total burden hours
Admission | 216 | 278 | 20 | 20,016
Case Manager Call Log and Case Notes | 216 | 8,426 | 5 | 151,668
Home Study/Post-Release Services Primary Provider Entity | 9 | 1 | 10 | 2
Home Study/Post-Release Services Primary Provider Profile | 9 | 13 | 10 | 20
Home Study/Post-Release Services Subcontractors Entity | 51 | 1 | 10 | 9
Home Study/Post-Release Services Subcontractors Profile | 51 | 13 | 10 | 111
Home Study/Post-Release Services (HS/PRS) Referral | 216 | 68 | 15 | 3,672
Ohio Youth Assessment System (OYAS) Reentry Tool | 506 | 3 | 75 | 1,898
Post-Release Services Event | 60 | 968 | 60 | 58,080
UAC Authorized/Restricted Call List and Call Log | 216 | 6,981 | 5 | 125,658
Estimated Annual Burden Hours Total | 361,132

Placement and Transfer of Unaccompanied Alien Children Into ORR Care Provider Facilities
[OMB #0970-0554]
Instrument | Annual total number of respondents | Annual total number of responses per respondent | Average burden minutes per response | Annual total burden hours
Family Group Entity | 16 | 188 | 5 | 251
Influx Transfer Manifest | 3 | 12 | 20 | 12
Influx Transfer Manual and Prescreen Criteria Review | 216 | 43,333 | 30 | 4,679,964
Estimated Annual Burden Hours Total | 4,680,227

Administration and Oversight of the Unaccompanied Alien Children Program
[OMB #0970-0547]
Instrument | Annual total number of respondents | Annual total number of responses per respondent | Average burden minutes per response | Annual total burden hours
Notification of Concern | 301 | 15 | 15 | 1,129
Estimated Annual Burden Hours Total | 1,129

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology.

Authority: 6 U.S.C. 279; 8 U.S.C. 1232; Flores v. Reno Settlement Agreement, No. CV85-4544-RJK (C.D. Cal. 1996).

Mary B. Jones,
ACF/OPRE Certifying Officer.

[FR Doc. 2020-25477 Filed 11-18-20; 8:45 am]

BILLING CODE 4184-45-P